SECURITIES AND EXCHANGE COMMISSION

Submission for OMB Review; Comment Request

Upon Written Request, Copies Available From: Securities and Exchange Commission, Office of Filings and Information Services, Washington, DC 20549.

Extension:

Rule 19b-5 and Form PILOT; SEC File No. 270-448; OMB Control No. 3235-0507.

Notice is hereby given that pursuant to the Paperwork Reduction Act of 1995 (44 U.S.C. 3501 et seq.), the Securities and Exchange Commission (“Commission”) has submitted to the Office of Management and Budget a request for extension of the previously approved collection of information discussed below.

Rule 19b-5 provides a temporary exemption from the rule-filing requirements of Section 19(b) of the Securities Exchange Act of 1934 (“Act”) to self-regulatory organizations (“SROs”) wishing to establish and operate pilot trading systems. Rule 19b-5 permits an SRO to develop a pilot trading system and to begin operation of such system shortly after submitting an initial report on Form PILOT to the Commission. During operation of the pilot trading system, the SRO must submit quarterly reports of the system's operation to the Commission, as well as timely amendments describing any material changes to the system. After two years of operating such pilot trading system under the exemption afforded by Rule 19b-5, the SRO must submit a rule filing pursuant to Section 19(b)(2) of the Act in order to obtain permanent approval of the pilot trading system from the Commission.

The collection of information is designed to allow the Commission to maintain an accurate record of all new pilot trading systems operated by SROs and to determine whether an SRO has properly availed itself of the exemption afforded by Rule 19b-5.

The respondents to the collection of information are SROs, as defined by the Act, including national securities exchanges and national securities associations.

Six respondents file an average total of 6 initial reports (estimated to be 144 total burden hours), 24 quarterly reports (estimated to be 72 total burden hours), and 12 amendments per year (estimated to be 36 total burden hours), with an estimated total annual response burden of 252 hours. At an average hourly cost of $51.71, the aggregate related cost of compliance with Rule 19b-5 for all respondents is $13,032 per year (252 burden hours multiplied by $51.71/hour = $13,031).

Although Rule 19b-5 does not in itself impose recordkeeping burdens on SROs, it relies on existing requirements imposed by Rule 17a-1 under the Act to require SROs to retain all the rules and procedures relating to each pilot trading system operating pursuant to Rule 19b-5 and to make such records available for Commission inspection for a period of not less than five years, the first two years in an easily accessible place.

Compliance with Rule 19b-5 is mandatory. Information received in response to Rule 19b-5 shall be available only for examination by the Commission, other agencies of the federal government, state securities authorities and SROs.

An agency may not conduct or sponsor, and a person is not required to respond to, a collection of information unless it displays a currently valid control number.

Written comments regarding the above information should be directed to the following persons: (a) the Desk Officer for the SEC, by sending an e-mail to: David_Rostker@omb.eop.gov; and (b) R. Corey Booth, Director/Chief Information Officer, Office of Information Technology, Securities and Exchange Commission, 450 Fifth Street, NW., Washington, DC 20549. Comments must be submitted to the Office of Management and Budget within 30 days of this notice.

Dated: August 13, 2004.
Margaret H. McFarland,
Deputy Secretary.

[FR Doc. 04-18912 Filed 8-17-04; 8:45 am]

BILLING CODE 8010-01-P